DEPARTMENT OF ENERGY

Agency Information Collection Extension

AGENCY: U.S. Department of Energy.

ACTION: Notice and request for comments.

SUMMARY: The Department of Energy (DOE), pursuant to the Paperwork Reduction Act of 1995,¹ intends to extend for three years, an information collection request with the Office of Management and Budget (OMB) concerning security requirements for DOE contractors. The collections in this package are used by DOE to exercise management oversight and control over its contractors that provide goods and services for DOE organizations and activities in accordance with the terms of their contracts and the applicable statutory, regulatory, and mission support requirements of the Department. Information collected from private industry and/or private individuals is used to protect national security and other critical assets entrusted to the Department. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

¹ 44 U.S.C. 3501 et seq.

Comments submitted in response to this notice will be summarized and/or included in the request for OMB approval of this information collection; they also will become a matter of public record.

DATES: Comments regarding this proposed information collection must be received on or before August 4, 2008. If you anticipate difficulty in submitting comments within that period, contact the person listed below as soon as possible.

ADDRESSES: Written comments may be sent to: Kathy Murphy, HS-1.23 Germantown Building, U.S. Department of Energy, 1000 Independence Ave., SW., Washington, DC 20585-1290 or by fax at 301-903-5492 or by e-mail at Kathy.murphy@hq.doe.gov

FOR FURTHER INFORMATION CONTACT: Requests for additional information or copies of the information collection instrument and instructions should be directed to the person listed above in ADDRESSES.

SUPPLEMENTARY INFORMATION: This package contains: (1) OMB No. 1910-1800; (2) Package Title: Security; (3) Type of Review: renewal; (4) Purpose: for DOE management to exercise management oversight and control over its contractors; (5) Respondents: 68,458; (6) Estimated Number of Burden Hours: 265,256.

Statutory Authority: Department of Energy Organization Act, Public Law 95-91, of August 4, 1977.

Issued in Washington, DC, on April 28, 2008.
Lesley A. Gasperow,
Director, Office of Resource Management, Office of Health, Safety and Security.

[FR Doc. E8-12433 Filed 6-3-08; 8:45 am]

BILLING CODE 6450-01-P